DEPARTMENT OF THE TREASURY

Internal Revenue Service

26 CFR Parts 1 and 54

[REG-136193-01]

RIN 1545-BA08

Notice of Significant Reduction in the Rate of Future Benefit Accrual; Correction

AGENCY: Internal Revenue Service (IRS), Treasury.

ACTION: Correction to notice of proposed rulemaking and notice of public hearing.

SUMMARY: This document contains a correction to the notice of proposed rulemaking and notice of public hearing that was published in the Federal Register on Tuesday, April 23, 2002 (67 FR 19713) that relates to the requirements of section 4980F of the Internal Revenue Code (Code) and section 204(h) of the Employee Retirement Income Security Act of 1974 (ERISA), as amended, which apply to defined benefit plans and to individual account plans that are subject to the funding standards of section 412 of the Code and section 302 of ERISA.

FOR FURTHER INFORMATION CONTACT: Pamela Kinard, (202) 622-3847 (not a toll-free number).

SUPPLEMENTARY INFORMATION:

Background

The notice of proposed rulemaking and notice of public hearing that is the subject of this correction is under section 4980F of the Internal Revenue Code.

Need for Correction

As published, REG-136193-01 contains an error which may prove to be misleading and is in need of clarification.

Correction of Publication

Accordingly, the publication of the notice of proposed rulemaking and notice of public hearing (REG-136193-01), which is the subject of FR Doc. 02-9529 is corrected as follows:

On page 19718, column 2, in the preamble under the caption “Comments and Public Hearing”, third paragraph, line 8, the language “(8) copies) by June 18, 2002. A period” is corrected to read “(8) copies) by July 22, 2002. A period”.

LaNita Van Dyke,
Paralegal Specialist, Regulations Unit, Associate Chief Counsel, (Income Tax and Accounting).

[FR Doc. 02-12721 Filed 5-20-02; 8:45 am]

BILLING CODE 4830-01-P